NATIONAL ARCHIVES AND RECORDS ADMINISTRATION

[NARA-2024-048]

Agency Information Collection Activities: Submission for OMB Review; Comment Request

AGENCY: National Archives and Records Administration (NARA).

ACTION: Notice.

SUMMARY: We have submitted a request to the Office of Management and Budget (OMB) for approval to continue to collect information used by registrants or other authorized individuals to request information from or copies of Selective Service System (SSS) records. We invite you to comment on this proposed information collection.

DATES: OMB must receive written comments on or before August 29, 2024.

ADDRESSES: Send any comments and recommendations on the proposed information collection in writing to www.reginfo.gov/public/do/PRAMain. You can find this particular information collection by selecting “Currently under 30-day Review—Open for Public Comments” or by using the search function.

FOR FURTHER INFORMATION CONTACT: Tamee Fechhelm, Paperwork Reduction Act Officer, by email at tamee.fechhelm@nara.gob or by telephone at 301.837.1694 with any requests for additional information.

SUPPLEMENTARY INFORMATION: Pursuant to the Paperwork Reduction Act of 1995 (Public Law 104-13), we invite the general public and other Federal agencies to comment on proposed information collections. We published a notice of proposed collection for this information collection on May 16, 2024 (89 FR 42903) and we received one comment. The commenter stated, “The Selective Service System would like to share a comment on the above-captioned matter submitted by NARA to the Federal Register regarding NARA's Form NA13172. The Agency recommends that NARA add, as a required field, the social security numbers as a field within the form to ensure the correct information is pulled when answering public inquires for information.”

We have considered this comment and provided this response “Social Security Numbers (SSNs) are a rarity on the Selective Service System Registration Cards and Classification Ledgers in our holdings. Adding a required SSN field is unnecessarily restrictive as it will not assist in verifying the correct record has been pulled in most instances. We verify the correct record has been pulled by comparing the Registrant's full name, date of birth, and home address at the time of registration, as listed on each NA Form 13172 received, to the information on the document(s) requested.”

This comment does not change the purpose of the information collection or change the information we collect from researchers who are requesting access to archival records. We have therefore submitted the described information collection to OMB for approval. We will continue requesting as much record-identifying information from researchers as possible, pursuant to this information collection, to aid us in finding the documents researchers seek, including the SSS records this researcher mentions.

If you have comments or suggestions, they should address one or more of the following points: (a) whether the proposed information collection is necessary for NARA to properly perform its functions; (b) our estimate of the burden of the proposed information collection and its accuracy; (c) ways we could enhance the quality, utility, and clarity of the information we collect; (d) ways we could minimize the burden on respondents of collecting the information, including through information technology; and (e) whether this collection affects small businesses.

In this notice, we solicit comments concerning the following information collection:

Title: Selective Service System Record Request.

OMB number: 3095-0071.

Agency form numbers: NA Form 13172.

Type of review: Regular.

Affected public: Individuals or households.

Estimated number of respondents: 1,737.

Estimated time per response: 2 minutes.

Frequency of response: On occasion.

Estimated total annual burden hours: 58.

Abstract: The National Personnel Records Center (NPRC) of the National Archives and Records Administration (NARA) administers the Selective Service System (SSS) records. The SSS records contain both classification records and registration cards of registrants born before January 1, 1960. When registrants or other authorized individuals request information from or copies of SSS records they must provide on forms or letters certain information about the registrant and the nature of the request. Requesters use NA Form 13172, Selective Service Record Request to obtain information from SSS records stored at NARA facilities.

Sheena Burrell,
Executive for Information Services/CIO.

[FR Doc. 2024-16683 Filed 7-29-24; 8:45 am]

BILLING CODE 7515-01-P